SMALL BUSINESS ADMINISTRATION

[Disaster Declaration #13768 and #13769]

Colorado Disaster #CO-00065

AGENCY: Small Business Administration.

ACTION: Notice.

SUMMARY: This is a Notice of the Presidential declaration of a major disaster for the State of Colorado (FEMA-4145-DR), dated 09/14/2013.

Incident: Severe storms, Flooding, Landslides, and Mudslides.

Incident Period: 09/11/2013 and continuing.

Effective Date: 09/14/2013.

Physical Loan Application Deadline Date: 11/14/2013.

Economic Injury (EIDL) Loan Application Deadline Date: 06/16/2014.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: Notice is hereby given that as a result of the President's major disaster declaration on 09/14/2013, applications for disaster loans may be filed at the address listed above or other locally announced locations.

The following areas have been determined to be adversely affected by the disaster:

Primary Counties (Physical Damage and Economic Injury Loans): Adams, Boulder, Larimer, Weld.

Contiguous Counties (Economic Injury Loans Only):

Colorado: Arapahoe, Broomfield, Denver, Gilpin, Grand, Jackson, Jefferson, Logan, Morgan, Washington.

Nebraska: Kimball.

Wyoming: Albany, Laramie.

The Interest Rates are:

| Percent
For Physical Damage:
Homeowners With Credit Available Elsewhere | 3.875
Homeowners Without Credit Available Elsewhere | 1.937
Businesses With Credit Available Elsewhere | 6.000
Businesses Without Credit Available Elsewhere | 4.000
Non-Profit Organizations With Credit Available Elsewhere | 2.875
Non-Profit Organizations Without Credit Available Elsewhere | 2.875
For Economic Injury:
Agricultural Cooperatives Without Credit Available Elsewhere | 4.000
Non-Profit Organizations Without Credit Available Elsewhere | 2.875

The number assigned to this disaster for physical damage is 137686 and for economic injury is 137690.

(Catalog of Federal Domestic Assistance Numbers 59002 and 59008)

James E. Rivera,
Associate Administrator for Disaster Assistance.

[FR Doc. 2013-22917 Filed 9-19-13; 8:45 am]

BILLING CODE 8025-01-P